DEPARTMENT OF STATE

[Public Notice: 9100]

Provision of Certain Temporary Sanctions Relief

AGENCY: Department of State.

ACTION: Notice.

SUMMARY: The U.S. government is renewing temporary waivers of certain sanctions to allow for a discrete range of transactions related to the provision of satellite connectivity services to the Islamic Republic of Iran Broadcasting (IRIB). The U.S. government is renewing these waivers based on Iran's commitment to ensure that harmful uplink satellite interference does not emanate from its territory, and verification by the U.S. government that harmful uplink satellite interference is not currently emanating from the territory of Iran.

DATES: Effective Date: The effective dates of these waiver actions are as described in the determinations set forth below.

FOR FURTHER INFORMATION CONTACT: On general issues: Paul Pavwoski, Office of Economic Sanctions Policy and Implementation, Department of State, Telephone: (202) 647-7489.

On January 30, the Secretary of State took the following actions:

Acting under the authorities vested in me as Secretary of State, I hereby make the following determinations and certifications:

Pursuant to Sections 1244(i), 1246(e) and 1247(f) of the Iran Freedom and Counter-Proliferation Act of 2012 (subtitle D of title XII of Public Law 112-239, 22 U.S.C. 8801 et seq.) (IFCA) and the Delegation of Certain Functions and Authorities under IFCA, 78 FR 35545 (June 13, 2013), I determine that it is vital to the national security of the United States to waive the imposition of sanctions pursuant to:

1. Section 1244(c)(1) of IFCA ¹ to the extent required for:

¹ Pursuant to section 1244(c)(2)(C)(iii) of IFCA, the relevant sanction in Section 1244(c)(1) continues not to apply, by its terms, in the case of Iranian financial institutions that have not been designated for the imposition of sanctions in connection with Iran's proliferation of weapons of mass destruction or delivery systems for weapons of mass destruction, support for international terrorism, or abuses of human rights (as described in section 1244(c)(3)).

a. Transactions involving the provision of ground connectivity services using earth stations and fiber optic connections outside of Iran and the provision and management of satellite capacity for sale or resale to the Islamic Republic of Iran Broadcasting (IRIB), where such ground connectivity services and satellite capacity are to be used for the provision to Iran of public international telecommunications services, and

b. transactions involving the provision of the following related administrative services to, or for the benefit of, the IRIB, to the extent such services are necessary to establish and maintain ground and satellite connectivity with IRIB: Standard operational support, including coordinating with in-country personnel on matters such as configuring ground and earth station equipment to access space segment capacity; marketing services; billing services; and legal services, and excluding any transactions involving persons other than the IRIB on the SDN List.

2. Section 1246(a) of IFCA ² to the extent required for the provision of underwriting services or insurance or reinsurance for:

² Pursuant to section 1246(a)(1)(C) of IFCA, the relevant sanction in Section 1246(a)(1)) continues not to apply, by its terms, in the case of Iranian financial institutions that have not been designated for the imposition of sanctions in connection with Iran's proliferation of weapons of mass destruction or delivery systems for weapons of mass destruction, support for international terrorism, or abuses of human rights (as described in section 1246(b)).

a. Transactions involving the provision of ground connectivity services using earth stations and fiber optic connections outside of Iran and the provision and management of satellite capacity for sale or resale to the IRIB, where such ground connectivity services and satellite capacity are to be used for the provision to Iran of public international telecommunications services, and excluding any transactions involving persons other than the IRIB on the SDN List; and

b. transactions involving the provision of the following related administrative services to, or for the benefit of, Iran, to the extent such services are necessary to establish and maintain ground and satellite connectivity with IRIB: Standard operational support, including coordinating with in-country personnel on matters such as configuring ground and earth station equipment to access space segment capacity; marketing services; billing services; and legal services, and excluding any transactions involving persons other than the IRIB on the SDN List.

3. Section 1247(a) of IFCA ³ to the extent required for transactions by foreign financial institutions on behalf of IRIB involving:

³ Pursuant to section 1247(a) of IFCA, the relevant sanction in section 1247(a) still continues not to apply, by its terms, in the case of Iranian financial institutions that have not been designated for the imposition of sanctions in connection with Iran's proliferation of weapons of mass destruction or delivery systems for weapons of mass destruction, support for international terrorism, or abuses of human rights (as described in section 1247(b)).

a. The provision of ground connectivity services using earth stations and fiber optic connections outside of Iran and the provision and management of satellite capacity for sale or resale to the IRIB, where such ground connectivity services and satellite capacity are to be used for the provision to Iran of public international telecommunications services, and for associated services, and

b. transactions involving the provision of the following related administrative services to, or for the benefit of, Iran, to the extent such services are necessary to establish and maintain ground and satellite connectivity with IRIB: Standard operational support, including coordinating with in-country personnel on matters such as configuring ground and earth station equipment to access space segment capacity; marketing services; billing services; and legal services.

These waivers shall take effect upon transmittal to Congress.

(Signed John F. Kerry, Secretary of State)

Therefore, these sanctions have been waived as described in the determinations above. Relevant agencies and instrumentalities of the U.S. government shall take all appropriate measures within their authority to carry out the provisions of this notice.

Charles H. Rivkin,
Assistant Secretary for Economic and Business Affairs.

[FR Doc. 2015-09511 Filed 4-22-15; 8:45 am]

BILLING CODE 4710-07-P